DEPARTMENT OF COMMERCE

[I.D. 061803I]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Socioeconomic Monitoring Program for the Florida Keys National Marine Sanctuary.

Form Number(s): None.

OMB Approval Number: 0648-0409.

Type of Request: Regular submission.

Burden Hours: 420.

Number of Respondents: 70.

Average Hours Per Response: 3 hours for a commercial fishing panel response; and 10 hours for a dive shop log.

Needs and Uses: The purpose of this information collection is to obtain socioeconomic monitoring information in the Florida Keys National Marine Sanctuary (FKNMS). In 1997, regulations became effective that created a series of “no take zones” in the FKNMS. Monitoring programs are used to test the ecological and socioeconomic impacts of the “no take zones”. Two voluntary data collection efforts support the socioeconomic monitoring program.

The first collection involves a set of panels on commercial fishing operations, where commercial fishermen will be interviewed to assess financial performance and assess the impacts of Sanctuary regulations. Information on catch, effort, revenues, and operating and capital costs will be obtained to do financial performance analysis. Information on socioeconomic factors for developing profiles of the commercial fishermen such as age, sex, education level, household income, marital status, number of family members, race/ethnicity, percent of income derived from fishing, percent of income derived from study area, and years of experience in fishing will be gathered to compare panels with the general commercial fishing population. The data will be collected annually.

The second collection will monitor recreational for-hire operations through the use of dive logs for estimating use in the “no take areas” versus other areas for snorkeling, scuba diving, and glass-bottom boat rides. Volunteers will collect the logbooks monthly.

Affected Public: Business or other for-profit organizations, individuals or households.

Frequency: Annual, recordkeeping.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: June 17, 2003.
Gwellnar Banks,
Management Analyst, Office of the Chief Information Officer.

[FR Doc. 03-15950 Filed 6-23-03; 8:45 am]

BILLING CODE 3510-NK-S